DEPARTMENT OF STATE

[Public Notice 3685]

Privacy Act of 1974: Altered Systems of Records

Notice is hereby given that the Department of State proposes to alter six existing systems of records, STATE-08, STATE-62, STATE-63, STATE-64, STATE-65 and STATE-66 pursuant to the provisions of the Privacy Act of 1974, as amended (5 U.S.C. 522a (r)), and the Office of Management and Budget Circular No. A-130, Appendix I. These systems were integrated into the Department of State on October 1, 1999 as part of the Foreign Affairs Agencies Consolidation Act of 1998 (Pub. L. 105-277). The Department's report was filed with the Office of Management and Budget on May 16, 2001.

It is proposed that the current system STATE-62 will be renamed “Records of the Office of Citizen Exchanges” and STATE-65 will be renamed “Speaker/Specialist Program Records.” Due to the integration into the Department of State and the scope of the current systems, all six altered system descriptions will include revisions and/or additions to all other sections. Changes to the existing system descriptions are proposed in order to reflect more accurately the Bureau of Educational and Cultural Affairs, and the Office of International Information Programs' record-keeping systems and a reorganization of activities and operations.

Any persons interested in commenting on the altered systems of records may do so by submitting comments in writing to Margaret Peppe, Chief; Programs and Policies Division; Office of IRM Programs and Services; A/RPS/IPS/PP; U.S. Department of State, SA-2; Washington, DC 20522-6001.

These systems of records will be effective 40 days from the date of publication, unless we receive comments that will result in a contrary determination.

The altered system descriptions, “Educational and Cultural

Exchange Program Records, STATE-08,” “Records of the Office of Citizen Exchanges, STATE-62,” “Cultural Property Advisory Committee Records, STATE-63,” “Service Contributors Records, STATE-64,” “Speaker/Specialist Program Records, STATE-65,” and “Electronic Media Photographers Records, STATE-66” will read as set forth below.

Dated: May 16, 2001.
Patrick F. Kennedy,
Assistant Secretary for the Bureau of Administration, Department of State.

STATE-08

System name:

Educational and Cultural Exchange Program Records.

Security classification:

Unclassified.

System location:

Department of State; SA-44; 301 Fourth Street, SW; Washington, DC 20547.

Categories of individuals covered by the system:

Applicants, recipients and prospective recipients of Educational and Cultural Exchange grants and programs; members of the J. William Fulbright Foreign Scholarship Board; and American Executive Secretaries of Fulbright Foundations and Commissions.

Categories of records in the system:

Biographic information; project descriptions; evaluations of the performances of former grantees; evaluations of performing artists who may be potential grantees; copies of press releases; new clippings; information related to the grant and related correspondence; academic transcripts; letters of reference; ratings by non-governmental panel members; insurance vouchers and cards; medical clearance forms; travel itineraries; and confirmation letters.

Authority for maintenance of the system:

22 U.S.C. 2651a (Organization of the Department of State); 22 U.S.C. 3921 (Management of the Foreign Service); and 5 U.S.C. 301 (Management of the Department of State).

Purposes:

The information contained in the records of the Bureau of Educational and Cultural Affairs (ECA) is collected and maintained primarily to aid in the selection of individuals for educational and cultural exchange grants and programs, and for the administration of such grants and programs.

Routine uses of records maintained in the system, including categories of users and purposes of such uses:

The information in the Educational and Cultural Exchange Program Records is used:

—To develop statistics for use in the operation of the exchange program;

—By relatives when the information is required for the benefit of the subject;

—To select individuals for the programs;

—To provide information to the news media for promotion of the Fulbright program and to confirm status of grantees);

—To disclose information to officials of foreign governments and organizations in vetting the process and selection of participants;

—By peer review committees from cooperating agencies for the ranking and rating process; and

—By ECA program officers for record keeping purposes.

Also see the “Routine Uses” paragraph of the Prefatory Statement published in the Federal Register.

Policies and practices for storing, retrieving, accessing, retaining and disposing of records in the system:

Storage:

Hard copy; electronic media.

Retrievability:

Individual name.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and disposal:

These records will be maintained until they become inactive, at which time they will be retired or destroyed in accordance with published record schedules of the Department of State and as approved by the National Archives and Records Administration. More specific information may be obtained by writing to the Director; Office of IRM Programs and Services; Department of State; SA-2; 515 22nd Street, NW; Washington, DC 20522-6001.

System managers and address:

Assistant Secretary for Educational and Cultural Affairs; Department of State; SA-44; 301 Fourth Street, SW; Washington, DC 20547.

Notification procedure:

Individuals who have reason to believe that the Bureau of Educational and Cultural Affairs might have records pertaining to themselves should write to the Director; Office of IRM Programs and Services; Department of State; SA-2; 515 22nd Street, NW; Washington, DC 20522-6001. The individual must specify that he/she wishes the Educational and Cultural Exchange Program Records to be checked. At a minimum, the individual should include: name; date and place of birth; social security number; current mailing address and zip code; signature; a brief description of the circumstances that caused the creation of the record, and the approximate dates which give the individual cause to believe that the Bureau of Educational and Cultural Affairs has records pertaining to him/her.

Record access procedures:

Individuals who wish to gain access to or amend records pertaining to themselves should write to the Director, Office of IRM Programs and Services (address above).

Record source categories:

These records contain information obtained primarily from the individual who is the subject of these records, and from published material and other reference sources.

Systems exempted from certain provisions of the Act:

None.

STATE-62

System name:

Records of the Office of Citizen Exchanges.

Security Classification:

Unclassified.

System Location:

Department of State; SA-44; 301 Fourth Street, SW; Washington, DC 20547.

Categories of Individuals Covered by the System:

Individuals who have traveled at U.S. Government expense under Department of State grants for cultural exchange in the performance of grant requirements.

Categories of Records in the System:

Applications for grants that may include applicant's name, address, telephone number, date and place of birth, citizenship, biographic data, education, current position held by grantee, organizational affiliation, grantee organization, grant number, date, destination, and purpose of travel. Other information may include social security number, bank enrollment information, visa applications with passport number, travel itineraries and grantee/post final program reports.

Authority for Maintenance of the System:

22 U.S.C. 2651a (Organization of the Department of State); 22 U.S.C. 3921 (Management of the Foreign Service); 5 U.S.C. 301 (Management of the Department of State); and 22 U.S.C. 2451-58 (Mutual Educational and Cultural Exchange Act of 1961).

Purposes:

The information contained in the Records of the Office of Citizen Exchanges is collected and maintained by the Office of Citizen Exchanges for the implementation of grants for cultural exchange programs.

Routine Uses of Records Maintained in the System, Including Categories of Users and Purposes of Such Uses:

The information relating to American travelers in the Records of the Office of Citizen Exchanges is used:

—For general reference for future programming purposes;

—By judges for the Jazz Ambassador Program to record findings on the technical and artistic ability of the artist;

—For administrative purposes such as requesting visas, enrolling grantee in government health insurance, authorization for deposit of funds to bank accounts and notification of travel arrangements; and

—To disclose information to officials of foreign governments and organizations before a participant is sent to that country in order to facilitate participation in programs and events.

Also see the “Routine Uses” paragraph of the Prefatory Statement published in the Federal Register.

Policies and Practices for Storing, Retrieving, Accessing, Retaining and Disposing of Records in the System:

Storage:

Hard copy; electronic media.

Retrievability:

Individual name.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and Disposal:

These records will be maintained until they become inactive, at which time they will be retired or destroyed in accordance with published record schedules of the Department of State and as approved by the National Archives and Records Administration. More specific information may be obtained by writing to the Director; Office of IRM Programs and Services; SA-2; Department of State; 515 22nd Street, NW; Washington, DC 20522-6001.

System Managers and Address:

Director, Cultural Programs Division; Bureau of Educational and Cultural Affairs; Department of State; 301 Fourth Street, SW; Washington, DC 20547.

Notification Procedure:

Individuals who have reason to believe that the Office of Citizen Exchanges might have records pertaining to themselves should write to the Director; Office of IRM Programs and Services; Department of State; SA-2; 515 22nd Street, NW; Washington, DC 20522-6001. The individual must specify that he/she wishes the Records of the Office of Citizen Exchanges to be checked. At a minimum, the individual should include: Name; date and place of birth; social security number; current mailing address and zip code; signature; a brief description of the circumstances that caused the creation of the record, and the approximate dates which give the individual cause to believe that the Office of Citizen Exchanges has records pertaining to him/her.

Record Access Procedures:

Individuals who wish to gain access to or amend records pertaining to themselves should write to the Director; Office of IRM Programs and Services (address above).

Record Source Categories:

These records contain information obtained primarily from the individual who is the subject of these records.

Systems Exempted from Certain Provisions of the Act:

None.

STATE-63

System Name:

Cultural Property Advisory Committee Records.

Security Classification:

Unclassified.

System Location:

Department of State; SA-44; 301 Fourth Street, SW; Washington, DC 20547.

Categories of Individuals Covered by the System:

Current and former members of the Cultural Property Advisory Committee who are private citizens appointed by the President to three year terms. Members may be experts in archaeology, anthropology, ethnology or related fields, representatives of museums, or representatives of the general public.

Categories of Records in the System:

These records contain curriculum vitae, appointment affidavits, Notification of Personnel Actions, Automated Clearinghouse Payment System forms, locator cards, confidential clearance memoranda, travel orders and travel vouchers.

Authority for Maintenance of the System:

22 U.S.C. 2651a (Organization of the Department of State); 22 U.S.C. 3921 (Management of the Foreign Service); 5 U.S.C. 301 (Management of the Department of State); and 10 U.S.C. 2601, et seq., (Convention on Cultural Implementation Act).

Purpose(s):

The information contained in the Records of the Cultural Property Advisory Committee is collected and maintained by the State Department in connection with its responsibility for administration of the Committee.

Routine Uses of Records Maintained in the System, Including Categories of Users and Purposes of Such Uses:

Information in the Records of the Cultural Property Advisory Committee is used in the administration of the Committee and its members including, but not limited to maintaining addresses and phone numbers, processing security clearances, issuing travel authorizations and vouchers. The information may also be used to disclose information to officials of foreign governments and organizations before a member is sent to that country in order to facilitate participation in programs and events.

Also see the “Routine Uses” paragraph of the Prefatory Statement published in the Federal Register.

Policies and Practices for Storing, Retrieving, Accessing, Retaining and Disposing of Records in the System:

Storage:

Hard copy; electronic media.

Retrievability:

Individual name.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and Disposal:

These records will be maintained until they become inactive, at which time they will be destroyed or retired in accordance with published record schedules of the Department of State and as approved by the National Archives and Records Administration. More specific information may be obtained by writing to the Director; Office of IRM Programs and Services; SA-2; Department of State; 515 22nd Street, NW; Washington, DC 20522-6001.

System Manager(s) and Address:

Assistant Secretary for Education and Cultural Affairs; Department of State; SA-44; 301 Fourth Street, SW; Washington, DC 20547.

Notification Procedure:

Individuals who have reason to believe that the Cultural Property Advisory Committee might have records pertaining to themselves should write to the Director; Office of IRM Programs and Services; Department of State; 515 22nd Street NW; SA-2; Street, NW; Washington, DC 20522-6001. The individual must specify that he/she wishes the Cultural Property Advisory Committee Records to be checked. At a minimum, the individual should include: Name; date and place of birth; social security number; current mailing address and zip code; signature; a brief description of the circumstances that caused the creation of the record, and the approximate dates which give the individual cause to believe that the Cultural Property Advisory Committee has records pertaining to him/her.

Record Access Procedures:

Individuals who wish to gain access to or amend records pertaining to themselves should write to the Director, Office of IRM Programs and Services (address above).

Record Source Categories:

These records contain information obtained primarily from the individual who is the subject of these records.

Systems Exempted From Certain Provisions of the Act:

None.

STATE-64

System name:

Service Contributors Records.

Security classification:

Unclassified.

System location:

Department of State; SA-44; 301 Fourth Street, SW.; Washington, DC 20547.

Categories of individuals covered by the system:

Freelance writers and photo-editors who are available to the Office of International Information Programs (IIP) on an intermittent, fixed-fee basis to perform services for the Office of International Information Programs, and authors of newspaper and magazine articles dealing with U.S. policies and practices in five thematic areas: Economic Security, Political Security, Democracy and Human Rights, Global Issues and Communications, and U.S. Society and Values.

Categories of records in the system:

Copies of purchase orders issued to the contributors, addresses, phone numbers, specialties of contributors, data on number of times contributors have been used and fees paid for services.

Authority for maintenance of the system:

22 U.S.C. 2651a (Organization of the Department of State); 22 U.S.C. 3921 (Management of the Foreign Service); and 5 U.S.C. 301 (Management of the Department of State).

Purpose(s):

The information contained in the Records of the Office of International Information Programs is collected and maintained to identify possible freelance contributors with the subject-matter expertise the Office of International Information Programs requires for its publications.

Routine uses of records maintained in the system, including categories of users and purposes of such uses:

The information in the Service Contributors Records is used:

—To select freelance writers and photo-editors to produce texts and research photos for IIP publications; and

—For office reference in identifying articles and locating authors.

Also see the “Routine Uses” paragraph of the Prefatory

Statement published in the Federal Register.

Policies and Practices for Storing, Retrieving, Accessing, Retaining and Disposing of Records in the System:

Storage:

Hard copy; electronic media.

Retrievability:

Individual name.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and disposal:

These records will be maintained until they become inactive, at which time they will be retired or destroyed in accordance with published record schedules of the Department of State and as approved by the National Archives and Records Administration. More specific information may be obtained by writing to the Director; Office of IRM Programs and Services; SA-2; Department of State; 515 22nd Street, NW; Washington, DC 20522-6001.

System manager(s) and address:

Copyright and Print Publications Team, IIP/T/CP; Office of International Information Programs; Department of State; SA-44; 301 Fourth Street, SW; Washington, DC 20547.

Notification procedure:

Individuals who have reason to believe that the Office of International Information Programs might have records pertaining to themselves should write to the Director; Office of IRM Programs and Services; Department of State; SA-2; 515 22nd Street, NW; Washington, DC 20522-6001. The individual must specify that he/she wishes the Service Contributors Records to be checked. At a minimum, the individual should include: Name; date and place of birth; social security number; current mailing address and zip code; signature; a brief description of the circumstances that caused the creation of the record, and the approximate dates which give the individual cause to believe that the Office of Information Programs has records pertaining to him/her.

Record access procedures:

Individuals who wish to gain access to or amend records pertaining to themselves should write to the Director, Office of IRM Programs and Services (address above).

Record source categories:

These records contain information obtained primarily from the individual who is the subject of these records, referrals of other freelance and photo-editor contributors, published material and other reference sources.

Systems Exempted From Certain Provisions of the Act:

None

STATE-65

System name:

Speaker/Specialist Program Records.

Security classification:

Unclassified.

System location:

Department of State; SA-44; 301 Fourth Street, SW; Washington, DC 20547.

Categories of Individuals Covered by the System:

American specialists and experts who have participated or been considered for participation in the Speaker/Specialist Program sponsored by the Office of International Information Programs. Specialists are recruited for their expertise in addressing foreign audiences in U.S. policies and practices in any of five thematic areas: Economic Security, Political Security, Democracy and Human Rights, Global Issues and Communications, and U.S. Society and Values.

Categories of records in the system:

These records contain biographic information about the speaker/specialist including education and professional experience; correspondence between the individual, the Department and overseas posts regarding the speaker's participation in the program; travel itineraries and visa documentation; grant authorization numbers and types; copies of the grant documents; cost and fiscal data; payment vouchers; Automated Clearing House (ACH) payment enrollment forms; country clearance telegrams; and where applicable, program evaluations and speaker reports.

AUTHORITY FOR MAINTENANCE OF THE SYSTEM:

5 U.S.C. 301 (Management of the Department of State); 22 U.S.C. 1431 et seq. (Smith-Mundt United States Information and Educational Exchange Act of 1948, as amended; 22 U.S.C. 2451-58 Fulbright-Hays Mutual Educational and Cultural Exchange Act of 1961, as amended; 22 U.S.C. 2651a (Organization of the Department of State); and 22 U.S.C. 3921 (Management of the Foreign Service).

Purpose(s):

The information contained in the Speaker/Specialist Program Records is collected and maintained by the Office of International Information Programs in the administration of its responsibility to manage the Department's Speaker/Specialist Program as provided for in the Smith-Mundt Act.

Routine Uses of Records Maintained in the System, Including Categories of Users and Purposes of Such Uses:

Information in the Speaker/Specialist Program Records is used or disseminated as follows:

—By program officers and assistants in implementing and managing the Speaker/Specialist Program;

—To generate grant documents and payment vouchers;

—For internal reporting and tracking of international speaking appearances;

—To generate periodic and ad hoc statistical reports in response to requests from Congress, the White House and other U.S. Government entities, e.g., the number of speakers addressing a specific issue; or the number of speakers from historically ethnic colleges and universities, and

—-To disclose information to officials of foreign governments and organizations before a participant is sent to that country in order to facilitate participation in programs and events.

Also see the “Routine Uses” paragraph of the Prefatory Statement published in the Federal Register.

Policies and Practices for Storing, Retrieving, Accessing, Retaining and Disposing of Records in the System:

Storage:

Hard copy; electronic media.

Retrievability:

Individual name.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and disposal:

These records will be maintained until they become inactive, at which time they will be destroyed or retired in accordance with published record schedules of the Department of State and as approved by the National Archives and Records Administration. More specific information may be obtained by writing to the Director; Office of IRM Programs and Services; Department of State; SA-2; 515 22nd Street, NW; Washington, DC 20522-6001.

System manager(s) and address:

Director, Office of International Information Programs; Department of State; SA-44; 301 Fourth Street, SW; Washington, DC 20547.

Notification procedure:

Individuals who have reason to believe that the Office of International Information Programs might have records pertaining to themselves should write to the Director; Office of IRM Programs and Services; Department of State; SA-2; 515 22nd Street NW; Washington, DC 20522-6001. The individual must specify that he/she wishes the Cultural Property Advisory Committee Records to be checked. At a minimum, the individual should include: Name; date and place of birth; social security number; current mailing address and zip code; signature; a brief description of the circumstances that caused the creation of the record, and the approximate dates which give the individual cause to believe that the Office of International Information Programs has records pertaining to him/her.

Record access procedures:

Individuals who wish to gain access to or amend records pertaining to themselves should write to the Director, Office of IRM Programs and Services (address above).

Record source categories:

These records contain information obtained primarily from the individual who is the subject of these records.

Systems exempted from certain provisions of the Act:

None.

STATE-66

System Name:

Electronic Media Photographers Records.

Security Classification:

Unclassified.

System Location:

Department of State; SA-44; 301 Fourth Street, SW.; Washington, DC 20547.

Categories of Individuals Covered by the System:

Freelance photographers who have applied/expressed interest in supplying photos or providing photo coverage of events of interest to the Department. Representatives of photo agencies that have contracts with the Department for providing photos and photo services.

Categories of records in the system:

These records contain personal information about the photographers/picture agents including name, address, telephone number, fees for services and products, specialties, nature of assignment, availability of rights, deadlines and other scheduling information and usage of the photos and other visual materials by our posts abroad. Records occasionally include evaluations of assignments and products by the program coordinator/manager of the photo services in the Department.

Authority for Maintenance of the System:

5 U.S.C. 301 (Management of the Department of State); 22 U.S.C. 1431 et seq. (Smith-Mundt United States Information and Educational Exchange Act of 1948, as amended); 22 U.S.C. 2651a (Organization of the Department of State); 22 U.S.C. 3921 (Management of the Foreign Service).

Purpose(s):

The information contained in the Electronic Media Photographers Records is collected and maintained by the Electronic Media/Visual Services Division of the Office of Thematic Programs whose staff includes photo editors responsible for providing photos and other graphic images for U.S. embassies, U.S. consulates general and consulates, as well as meeting the photo needs of elements in the Office of International Information Programs. Many of these images appear on the International Information Programs web site, which is designed exclusively for foreign audiences and U.S. posts abroad.

Routine Uses of Records Maintained in the System, Including Categories of Users and Purposes of Such Uses:

Information in the Electronic Media Photographers Records is used or disseminated as follows:

—To administer contracts with photo agencies, picture archives and other institutional sources;

—To assign and coordinate the work of freelance photographers chosen to cover special events;

—To provide contract photos;

—To contact certain media, corporations and news organizations to obtain photographs and rights for distribution and reproduction to our posts abroad;

—For internal reporting, cost accounting and billing; and

—To assess the nature and distribution of demands for photo resources in the Office of International Information Programs.

Also see the “Routine Uses” paragraph of the Prefatory

Statement published in the Federal Register.

Policies and Practices for Storing, Retrieving, Accessing, Retaining and Disposing of Records in the System:

Storage:

Hard copy; electronic media.

Retrievability:

Individual name.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and Disposal:

These records will be maintained until they become inactive, at which time they will be destroyed or retired in accordance with published record schedules of the Department of State and as approved by the National Archives and Records Administration. More specific information may be obtained by writing to the Director; Office of IRM Programs and Services; Department of State; SA-2; 515 22nd Street, NW.; Washington, DC 20522-6001.

System Manager(s) and Address:

Director, Office of Thematic Programs; Department of State; SA-44; 301 Fourth Street, SW.; Washington, DC 20547.

Notification Procedure:

Individuals who have reason to believe that the Office of Information Programs might have records pertaining to themselves should write to the Director; Office of IRM Programs and Services; Department of State; SA-2; 515 22nd Street, NW.; Washington, DC 20522-6001. The individual must specify that he/she wishes the Electronic Media Photographers Records to be checked. At a minimum, the individual should include: name; date and place of birth; social security number; current mailing address and zip code; signature; a brief description of the circumstances that caused the creation of the record, and the approximate dates which give the individual cause to believe that the Office of International Information Programs has records pertaining to him/her.

Record Access Procedures:

Individuals who wish to gain access to or amend records pertaining to themselves should write to the Director, Office of IRM Programs and Services (address above).

Record Source Categories:

These records contain information obtained primarily from the individual who is the subject of these records, from recommendations by third parties, directories of photo resources, and related organizations in the private sector.

Systems Exempted From Certain Provisions of the Act:

None.

[FR Doc. 01-13675 Filed 5-30-01; 8:45 am]

BILLING CODE 4710-24-P